DEPARTMENT OF COMMERCE

International Trade Administration

[A-580-839, A-583-833]

Certain Polyester Staple Fiber From the Republic of Korea and Taiwan: Final Results of Expedited Sunset Review of the Antidumping Duty Orders

AGENCY: Enforcement and Compliance, International Trade Administration, Department of Commerce.

SUMMARY: The Department of Commerce (the Department) finds that revocation of the antidumping duty order (AD) orders on certain cased polyester staple fiber from the Republic of Korea (Korea) and Taiwan would be likely to lead to continuation or recurrence of dumping at the level indicated in the “Final Results of Review” section of this notice.

DATES: Effective December 20, 2016.

FOR FURTHER INFORMATION CONTACT: Mary Kolberg, Office I, AD/CVD Operations, Enforcement and Compliance, International Trade Administration, U.S. Department of Commerce, 1401 Constitution Avenue NW., Washington, DC 20230; telephone: (202) 482-1785.

SUPPLEMENTARY INFORMATION:

Background

On August 1, 2016, the Department initiated a sunset review of the AD Orders ¹ on certain polyester staple fiber from Korea and Taiwan pursuant to section 751(c) of the Tariff Act of 1930, as amended (the Act).² Auriga Polymers Inc. (Auriga), DAK Americas, LLC (DAK Americas), and Nan Ya Plastics Corporation, America (Nan Ya America) notified the Department of their intent to participate in both sunset reviews as domestic interested parties on August 12, 2016, pursuant to 19 CFR 351.218(d)(1)(i).³ Each of these companies claimed interested party status under section 771(9)(C) of the Act, as domestic producers of the domestic like product.

¹ See Notice of Amended Final Determination of Sales at Less Than Fair Value: Certain Polyester Staple Fiber From the Republic of Korea and Antidumping Duty Orders: Certain Polyester Staple Fiber From the Republic of Korea and Taiwan, 65 FR 33807, 33808 (May 25, 2000); see also Certain Polyester Staple Fiber from Korea: Notice of Amended Final Determination and Amended Order Pursuant to Final Court Decision, 68 FR 74552, 74553 (December, 24, 2003) (AD Orders).

² See Initiation of Five-Year (“Sunset”) Review, 81 FR 50462 (August 1, 2016).

³ See letter from Auriga, DAK Americas, LLC, and Nan Ya America, re: “Five-Year (“Sunset”) Review of Antidumping Duty Order on Polyester Staple Fiber From the Republic of Korea—Notice of Intent to Participate,” dated August 12, 2016; see also letter from Auriga, DAK Americas, and Nan Ya America, re: “Five-Year (“Sunset”) Review of Antidumping Duty Order on Polyester Staple Fiber From Taiwan—Notice of Intent to Participate,” dated August 12, 2016.

On August 31, 2016, the Department received a collective substantive response from Auriga, DAK Americas, and Nan Ya America, within the 30-day deadline specified in 19 CFR 351.218(d)(3)(i).⁴ The Department did not receive a substantive response from any respondent interested party to the sunset proceeding. Because the Department received no response from the respondent interested parties, the Department conducted an expedited review of these AD Orders, pursuant to section 751(c)(3)(B) of the Act and 19 CFR 351.218(e)(l)(ii)(C)(2).

⁴ See letter from Auriga, DAK Americas, LLC, and Nan Ya America, re: “Five-Year Sunset Review of Antidumping Duty Order on Polyester Staple Fiber From the Republic of Korea—Domestic Interested Parties' Substantive Response to Notice of Initiation,” dated August 31, 2016; see also letter from Auriga, DAK Americas, and Nan Ya America, re: “Five-Year Sunset Review of Antidumping Duty Order on Polyester Staple Fiber From Taiwan—Domestic Interested Parties' Substantive Response to Notice of Initiation,” dated August 31, 2016.

Scope of the Orders

Imports covered by the orders are defined as synthetic staple fibers, not carded, combed or otherwise processed for spinning, of polyesters measuring 3.3 decitex (3 denier, inclusive) or more in diameter. This merchandise is cut to lengths varying from one inch (25 mm) to five inches (127 mm). The merchandise subject to the order may be coated, usually with a silicon, or other finish, or not coated. Polyester staple fiber is generally used as stuffing in sleeping bags, mattresses, ski jackets, comforters, cushions, pillows, and furniture. Merchandise of less than 3.3 decitex (less than 3 denier) currently classifiable in the Harmonized Tariff Schedule of the United States (“HTSUS”) at subheading 5503.20.00.25 is specifically excluded from the order. Also, specifically excluded from the order are polyester staple fibers of 10 to18 denier that are cut to lengths of 6 to 8 inches (fibers used in the manufacture of carpeting). In addition, low-melt polyester staple fiber is excluded from the order. Low-melt polyester staple fiber is defined as a bi-component fiber with an outer sheath that melts at a significantly lower temperature than its inner core. The merchandise subject to the order is currently classifiable in the HTSUS at subheadings 5503.20.00.45 and 5503.20.00.65. The HTSUS subheadings are provided for convenience and customs purposes only; the written description of the merchandise covered by the scope of the order is dispositive.

Analysis of Comments Received

All issues raised in this review are addressed in the Issues and Decision Memorandum, which is dated concurrently with this notice.⁵ The issues discussed in the Issues and Decision Memorandum include the likelihood of continuation or recurrence of dumping and the magnitude of the margins likely to prevail if the AD Orders were revoked. Parties can find a complete discussion of all issues raised in this expedited sunset review and the corresponding recommendations in this public memorandum, which is on file electronically via the Enforcement and Compliance Antidumping and Countervailing Duty Centralized Electronic Service System (ACCESS). ACCESS is available to registered users at http://access.trade.gov and in the Central Records Unit, room B8024 of the main Department of Commerce building. A list of topics discussed in the Issues and Decision Memorandum is included as an Appendix to this notice. In addition, a complete version of the Issues and Decision Memorandum can be accessed directly on the Internet at http://enforcement.trade.gov/frn/index.html. The signed Issues and Decision Memorandum and the electronic versions of the Issues and Decision Memorandum are identical in content.

⁵ See Memorandum to Paul Piquado, Assistant Secretary for Enforcement and Compliance, from Christian Marsh, Deputy Assistant Secretary for Antidumping and Countervailing Duty Operations, “Issues and Decision Memorandum for the Final Results of the Expedited Five-Year Sunset Review of the Antidumping Duty Orders on Certain Polyester Staple Fiber from the Republic of Korea and Taiwan,” dated November 29, 2016.

Final Results of Review

Pursuant to sections 751(c)(1) and 752(c)(1) and (3) of the Act, we determine that revocation of the AD Orders on certain staple fiber from Korea and Taiwan would be likely to lead to continuation or recurrence of dumping at weighted-average percent margins up to 7.48 percent and 9.90 percent, respectively.

Notification Regarding Administrative Protective Order

This notice serves as the only reminder to parties subject to an administrative protective order (APO) of their responsibility concerning the return or destruction of proprietary information disclosed under APO in accordance with 19 CFR 351.305. Timely notification of return/destruction of APO materials or conversion to judicial protective order is hereby requested. Failure to comply with the regulations and the terms of an APO is a sanctionable violation.

We are issuing and publishing these final results and notice in accordance with sections 751(c), 752(c), and 777(i)(1) of the Act, and 19 CFR 351.218.

Dated: November 29, 2016.
Paul Piquado,
Assistant Secretary for Enforcement and Compliance.

Appendix—List of Topics Discussed in the Issues and Decision Memorandum

I. Summary

II. History of the Order

III. Background

IV. Scope of the Order

V. Discussion of the Issues

1. Likelihood of Continuation or Recurrence of Dumping

2. Magnitude of the Margins Likely to Prevail

VI. Final Results of Review

VII. Recommendation

[FR Doc. 2016-30625 Filed 12-19-16; 8:45 am]

BILLING CODE 3510-DS-P